DEPARTMENT OF AGRICULTURE

Forest Service

Information Collection; Flathead and McKenzie Rivers and McKenzie National Recreational Trail Visitor Surveys

AGENCY: Forest Service, USDA.

ACTION: Notice; request for comment.

SUMMARY: In accordance with the Paperwork Reduction Act of 1995, the Forest Service is seeking comments from all interested individuals and organizations on an extension with no revisions of a currently approved information collection, Flathead Wild and Scenic River Visitor Survey and McKenzie River Visitor Survey.

DATES: Comments must be received in writing on or before January 25, 2013 to be assured of consideration. Comments received after that date will be considered to the extent practicable.

ADDRESSES: Comments concerning this notice should be addressed to Matt Peterson, U.S. Department of Agriculture (USDA) Forest Service, Willamette National Forest, 3106 Pierce Parkway, Suite D, Springfield, OR 97477. Comments also may be submitted via email to: mbpeterson@fs.fed.us The public may inspect comments received at USDA Forest Service, Willamette National Forest, 3106 Pierce Parkway, Suite D, Springfield, OR, during normal business hours. Visitors are encouraged to call ahead to 541-225-6421 to facilitate entry to the building.

FOR FURTHER INFORMATION CONTACT: Flathead—Colter Pence, Flathead National Forests, 406-387-3949 and Willamette—Matt Peterson, Willamette National Forest, 541-225-6421. Individuals who use telecommunication devices for the deaf (TDD) may call the Federal Relay Service (FRS) at 800-877-8339, between 8 a.m. and 8 p.m., Eastern Standard time, Monday through Friday.

SUPPLEMENTARY INFORMATION: Title: Flathead Wild and Scenic River Visitor Survey and McKenzie River Visitor Survey.

OMB Number: 0596-0229.

Expiration Date of Approval: 04/30/2013.

Type of Request: Extension with no revision of a currently approved information collection

Abstract: The Flathead and Willamette National Forests are proposing to continue implementation of an information collection from forest visitors who are recreating on or near the Flathead Wild and Scenic River, McKenzie Wild and Scenic River, or McKenzie National Recreational Trail. Because of the differences in the issues on each River and the need for different information, two separate surveys will be administered for the Flathead and Willamette Rivers though the methodology for collection will be essentially identical.

The visitor survey will support development of the Flathead Comprehensive River Management Plan (CRMP), implementation of the exiting Upper McKenzie River Management Plan, and will provide needed information for managers to protect and enhance the outstandingly remarkable values for which the Flathead and McKenzie Rivers were designated. In addition, the survey proposed will help managers identify the most important indicators to monitor over the life of the plan, determine if any thresholds are being approached, and if management action may need to occur.

Information will continue to be collected from visitors who are recreating on or near the Flathead and McKenzie Rivers and McKenzie National Recreational Trail by in-person, written surveys which will be administered by Forest Service or National Park Service (Flathead) employees, volunteers, or study cooperators to randomly selected visitors. Surveys will ask visitors to provide information about their trip and activities, environmental and social conditions that may alter the quality of their recreational experience, and their attitudes toward different existing and potential recreation management policies and practices. Visitors' responses are voluntary and anonymous.

Data will be entered into an Excel database. Once data entry has been completed and validated, the hardcopy questionnaires will be discarded. Data will be imported into SPSS (Statistical Package for the Social Sciences) for analysis. The database will be maintained at the respective National Forest to be used for development of subsequent management plans and direction.

Collecting thoughts from the public on how these areas should be managed and consideration of their interests and priorities is a critical component to developing a fair and balanced management plan and strategy. Without the public's involvement, a plan has the risk of being biased and ineffective.

Estimate of Annual Burden: The survey is expected to take 20 minutes to complete.

Type of Respondents: National Forest and National Park (Flathead) visitors (adults, age 16 and older) who are recreating on or near the Flathead or McKenzie Rivers or the McKenzie National Recreational Trail.

Estimated Annual Number of Respondents: 1000 (Willamette) and 1200 (Flathead).

Estimated Annual Number of Responses per Respondent: One response per respondent.

Estimated Total Annual Burden on Respondents: 333 hours (Willamette) and 400 hours (Flathead).

Comment is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: November 5, 2012.
James M. Pena,
Associate Deputy Chief, National Forest System.

[FR Doc. 2012-28511 Filed 11-23-12; 8:45 am]

BILLING CODE 3410-11-P